DEPARTMENT OF LABOR

Employment and Training Administration

[TA-W-73,095]

Avon Products, Inc., Including On-Site Leased Workers From Spherion/Source Right, Springdale, Ohio; Amended Certification Regarding Eligibility To Apply for Worker Adjustment Assistance

In accordance with Section 223 of the Trade Act of 1974, as amended (“Act”), 19 U.S.C. 2273, the Department of Labor issued a Certification of Eligibility to Apply for Worker Adjustment Assistance on April 8, 2010, applicable to workers of Avon Products, Inc., Springdale, Ohio. The workers produce cosmetics, in particular pump spray items, liquid and roll-on items, and lipstick and hot fill items. The notice was published in the Federal Register on May 5, 2010 (75 FR 24750).

At the request of the petitioners, the Department reviewed the certification for workers of the subject firm. The company reports that workers leased from Spherion/Source Right were employed on-site at the Springdale, Ohio location of Avon Products. The Department has determined that these workers were sufficiently under the control of Avon Products, Springdale, Ohio to be considered leased workers.

Based on these findings, the Department is amending this certification to include workers leased from Spherion/Source Right working on-site at the Springdale, Ohio location of Avon Products.

The amended notice applicable to TA-W-73,095 is hereby issued as follows:

“All workers of Avon Products, Inc., including on-site leased workers from Spherion/Source Right, Springdale, Ohio, who became totally or partially separated from employment on or after December 13, 2008, through April 8, 2012, and all workers in the group threatened with total or partial separation from employment on the date of certification through two years from the date of certification, are eligible to apply for adjustment assistance under Chapter 2 of Title II of the Trade Act of 1974, as amended.”

Signed at Washington, DC, this 28th day of September 2011.
Elliott S. Kushner,
Certifying Officer, Office of Trade Adjustment Assistance.

[FR Doc. 2011-26036 Filed 10-6-11; 8:45 am]

BILLING CODE 4510-FN-P